DEPARTMENT OF LABOR

Employee Benefits Security Administration

State All Payer Claims Databases Advisory Committee; Notice of Virtual Meeting

AGENCY: Employee Benefits Security Administration (EBSA), Department of Labor (DOL).

ACTION: Notice.

SUMMARY: This notice announces a meeting of the State All Payer Claims Databases Advisory Committee (hereinafter the Committee). This notice provides information to members of the public who may be interested in attending the meetings or providing written comments related to the work of the Committee. Notice of this meeting is required under the Federal Advisory Committee Act (FACA).

DATES: The Committee meeting will be held virtually on July 26, 2021. Key dates associated with this meeting, including the deadline for registration are discussed in the SUPPLEMENTARY INFORMATION section below.

ADDRESSES: The meeting will be held via webinar. The webinar link and log-in information will be available at DOL's Committee website: https://www.dol.gov/agencies/ebsa/about-ebsa/about-us/state-all-payer-claims-databases-advisory-committee.

FOR FURTHER INFORMATION CONTACT: Elizabeth Schumacher, Designated Federal Officer, EBSA, DOL, by sending an email to SAPCDAC@dol.gov. For press inquiries please contact Grant Vaught, Office of Public Affairs, DOL at 202-693-4672.

SUPPLEMENTARY INFORMATION: The Committee is mandated by section 735 of the Employee Retirement Income Security Act of 1974 as added by section 115(b) of the No Surprises Act, enacted as part of the Consolidated Appropriations Act, 2021, div. BB, tit. I, Public Law 116-260 (Dec. 27, 2020). The Committee is governed by the provisions of the FACA, as amended, 5 U.S.C. app.2.

The Committee will advise the Secretary of Labor on the standardized reporting format for the voluntary reporting by group health plans to State All Payer Claims Databases. Reporting will include medical claims, pharmacy claims, dental claims, and eligibility and provider files collected from private and public payers. The Committee will also advise the Secretary on what guidance is necessary to provide to States on the process by which States may collect such data in the standardized reporting format.

The Committee will be responsible for issuing a report that includes recommendations on the establishment of the format and guidance to the Secretary of Labor and certain congressional committees no later than 180 days after the date of enactment of the Consolidated Appropriations Act, 2021.

The Committee will meet on July 26, 2021 via webinar. The meeting will begin at 1:00 p.m. and end at approximately 5:00 p.m.

1. Deadline for Registration without Oral Presentation: July 23, 2021. Individuals can register for the meeting by visiting the Committee website: https://www.dol.gov/agencies/ebsa/about-ebsa/about-us/state-all-payer-claims-databases-advisory-committee.

2. Deadline for Registration of Oral Presentations: July 22, 2021. Requests should be submitted by email to SAPCDAC@dol.gov.

3. Deadline for Submission of Oral Remarks and Written Comments: July 22, 2021. Remarks and comments should be submitted by email to SAPCDAC@dol.gov.

4. Deadline for Requesting Special Accommodations: July 22, 2021. Requests should be submitted by email to SAPCDAC@dol.gov.

The meeting will focus on the various issues related to all payer claims databases and recommendations for the report that must be submitted by the Committee. Additional details about the agenda items and topics, as well as agenda updates, will be available on the Committee's website: https://www.dol.gov/agencies/ebsa/about-ebsa/about-us/state-all-payer-claims-databases-advisory-committee.

Dated: June 29, 2021.
Ali Khawar,
Acting Assistant Secretary, Employee Benefits Security Administration, U.S. Department of Labor.

[FR Doc. 2021-14287 Filed 7-2-21; 8:45 am]

BILLING CODE P